DEPARTMENT OF DEFENSE

Defense Acquisition Regulation System

[Docket Number 2015-0005]

Information Collection Requirement; Defense Federal Acquisition Regulation Supplement; DFARS 234.2, Earned Value Management System.

AGENCY: Defense Acquisition Regulations System, Department of Defense (DoD).

ACTION: Notice correction.

SUMMARY: This document corrects the date in a notice published in the Federal Register on February 23, 2015, (80 FR 9445) concerning request for comments on the proposed extension of OMB control number 0704-0479, DFARS 234.2, Earned Value Management System. The document contained an incorrect date for submission of public comments. The new date is April 24, 2015.

Correction

DATES: DoD will consider all comments received by April 24, 2015.

FOR FURTHER INFORMATION CONTACT: Mr. Mark Gomersall, at (571) 372-6099.

Manuel Quinones,
Editor, Defense Acquisition Regulations System.

[FR Doc. 2015-04051 Filed 2-26-15; 8:45 am]

BILLING CODE 5001-06-P